FEDERAL MARITIME COMMISSION

Notice of Agreements Filed

The Commission hereby gives notice of the filing of the following agreements under the Shipping Act of 1984. Interested parties may submit comments on the agreements to the Secretary, Federal Maritime Commission, Washington, DC 20573, within twelve days of the date this notice appears in the Federal Register. Copies of the agreements are available through the Commission's Web site (www.fmc.gov) or by contacting the Office of Agreements at (202) 523-5793 or tradeanalysis@fmc.gov.

Agreement No.: 012119-002.

Title: Maersk Line/CMA CGM TP5 Space Charter Agreement.

Parties: A.P. Moller-Maersk A/S and CMA CGM S.A.

Filing Parties: Wayne Rohde, Esq.; Cozen O'Connor; 1627 I Street NW.; Suite 1100; Washington, DC 20006.

Synopsis: The amendment extends the duration of the agreement.

Agreement No.: 201202-004.

Title: Oakland MTO Agreement.

Parties: Ports America Outer Harbor Terminal, LLC; Seaside Transportation Service LLC; SSA Terminals, LLC; SSA Terminals (Oakland), LLC; and Trapac, Inc.

Filing Party: David F. Smith, Esq.; Cozen O'Connor; 1627 I Street NW.; Suite 1100; Washington, DC 20006.

Synopsis: The amendment deletes Eagle Marine Services, Ltd. and Total Terminals International, LLC as parties to the agreement.

By Order of the Federal Maritime Commission.
Dated: March 28, 2014.
Rachel E. Dickon,
Assistant Secretary.

[FR Doc. 2014-07765 Filed 4-7-14; 8:45 am]

BILLING CODE 6730-01-P